DEPARTMENT OF COMMERCE

National Oceanic and Atmospheric Administration

[I.D. 010703C]

Western Pacific Fishery Management Council; Public Meeting

AGENCY: National Marine Fisheries Service (NMFS), National Oceanic and Atmospheric Administration (NOAA), Commerce.

ACTION: Notice of public meeting.

SUMMARY: The 82nd meeting of the Western Pacific Fishery Council's Scientific and Statistical Committee (SSC) will convene January 28 - 30, 2003 in Honolulu, HI.

DATES: The SSC meeting will be held from 9 a.m. to 5 p.m. on January 28, 2003, and from 8:30 a.m. to 5 p.m. on January, 29-30 2003.

ADDRESSES: The 82nd SSC meeting will be held at the Council office conference room, 1164 Bishop St., Suite 1400, Honolulu, HI; telephone: (808) 522-8220.

Council address: Western Pacific Fishery Management Council, 1164 Bishop St., Suite 1400, Honolulu, HI 96813.

FOR FURTHER INFORMATION CONTACT: Kitty M. Simonds, Executive Director; telephone: 808-522-8220.

SUPPLEMENTARY INFORMATION: The SSC will discuss and may make recommendations to the Council on the agenda items below. The order in which agenda items will be addressed can change.

Tuesday, January 28, 2003, 9 a.m.

1. Marine Mammals

a. Monk seal research

b. Monk Seal Recovery Team

2. Crustaceans Fisheries

a. Northwestern Hawaiian Islands lobster research

3. Bottomfish

a. Guam bottomfish management

4. Northwestern Hawaiian Islands/Main Hawaiian Islands Hawaii Undersea Research Laboratory research

Wednesday, 17 May 2000, 8:30 a.m.

5. Pelagic Fisheries

a. Hawaii and American Samoa third quarter longline reports for 2002

b. American Samoa longline observer program

c. American Samoa limited entry program

d. November 2002 Short-tail albatross Biological Opinion

e. Sea turtle conservation and management

i. November 2002 Western Pacific Pelagic Fisheries Biological Opinion

ii. Honolulu Lab mitigation turtle research

iii. Southern longline area closure

iv. Turtle population models

v. Council and NMFS turtle projects

vi. NMFS Technical Expert Workshop

f. International Meetings and Issues

i. Second International Fishers Forum

ii. Third Preparatory Conference for the Establishment of the Commission for the Conservation and Management of Highly Migratory Fish Stocks in the Western and Central Pacific

Thursday,18 May 2000, 8:30 a.m.

6. Ecosystem and Habitat

a. Northwestern Hawaiian Islands Coral Reef Sanctuary

b. Northwestern Hawaiian Islands Symposium

c. National Marine Fisheries Service Northwestern Hawaiian Islands Science Workshop

d. Marine Protected Area Working Group

7. Other Business

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: January 8, 2003.
Richard W. Surdi,
Acting Director, Office of Sustainable Fisheries, National Marine Fisheries Service.

[FR Doc. 03-637 Filed 1-10-03; 8:45 am]

BILLING CODE 3510-22-S